DEPARTMENT OF HOUSING AND URBAN DEVELOPMENT

[Docket No. FR-5211-N-01]

Notice of Certification and Funding of State and Local Fair Housing Enforcement Agencies Under the Fair Housing Assistance Program; Request for Comments

AGENCY: Office of the Assistant Secretary for Fair Housing and Equal Opportunity, HUD.

ACTION: Notice and request for comments.

SUMMARY: The regulations implementing the Fair Housing Assistance Program provide that the Assistant Secretary for Fair Housing and Equal Opportunity will periodically publish a list of all interim and certified agencies; and a list of agencies for which withdrawal of certification has been proposed. The purpose of identifying the agencies in the Federal Register is to solicit public comment on the state or local fair housing laws, as well as the performance of the agencies in enforcing these laws. This notice fulfills this regulatory requirement.

DATES: Comment Due Date: April 23, 2008.

ADDRESSES: Interested persons are invited to submit comments regarding the State or local fair housing enforcement agencies that are participating in the FHAP to the Office of Fair Housing and Equal Opportunity, Room 5230, Department of Housing and Urban Development, 451 Seventh Street, SW., Washington, DC 20410-0500. Facsimile (FAX) comments are not acceptable.

FOR FURTHER INFORMATION CONTACT: Kenneth J. Carroll, Director, FHAP Division, Office of Enforcement, Office of Fair Housing and Equal Opportunity, Department of Housing and Urban Development, 451 Seventh Street, SW., Room 5222, Washington, DC, 20410-0500 at (202) 402-7044 (this is not a toll-free number). Persons with speech or hearing impairments may contact the FHAP Division by calling 1-800-290-1671 (this is a toll-free number), or 1-800-877-8399 (the Federal Information Relay Service TTY) (this is a toll-free number).

SUPPLEMENTARY INFORMATION: Through the Fair Housing Assistance Program (FHAP), HUD provides funding to state and local fair housing agencies that enforce laws HUD has deemed substantially equivalent to the federal Fair Housing Act (42 U.S.C. 3601 et seq.). HUD's regulations for the FHAP are codified at 24 CFR part 155 (entitled “Certification and Funding of State and Local Fair Housing Enforcement Agencies”).

In order to participate in FHAP, HUD's Assistant Secretary for Fair Housing and Equal Opportunity (FHEO) must first determine whether a state or local law, on its face, provides rights, procedures, remedies and judicial review provisions that are substantially equivalent to the federal Fair Housing Act. An affirmative conclusion that the state or local law is substantially equivalent on its face will result in HUD offering the agency interim certification. During the period of interim certification, HUD's Assistant Secretary for FHEO will determine whether the state or local law, in operation, provides rights, procedures, remedies and the availability of judicial review that are substantially equivalent to the Fair Housing Act. An affirmative conclusion during interim certification that the state or local law is substantially equivalent both “on its face” and “in operation” will result in HUD offering the agency certification.

Certification is for a term of five years. During the five years of certification, the agency's ability to maintain certification will be assessed. After the five years of certification, if the Assistant Secretary for FHEO determines that the agency still qualifies for certification, HUD will renew the agency's certification for another five years.

In accordance with section 817 of the Fair Housing Act and the regulation implementing the FHAP at 24 CFR 115.102(a), HUD seeks public comment on the following agencies that have been granted interim certification:

• Arkansas Fair Housing Commission (Arkansas).

• Broward County Office of Equal Opportunity (Florida).

• City of Canton Fair Housing Commission (Ohio).

• City of Duluth Human Rights Office (Minnesota).

• City of North Olmstead, Ohio (Ohio).

• Erie County Human Relations Commission (Pennsylvania).

• Fairfax County Human Rights Commission (Virginia).

• Geneva Human Rights Commission (New York).

• Illinois Department of Human Rights (Illinois).

• Lancaster County Human Relations Commission (Pennsylvania).

• Maine Human Rights Commission (Maine).

• City of St. Louis Civil Rights Enforcement Agency (Missouri).

• State of New Jersey Division on Civil Rights (New Jersey).

In accordance with section 817 of the Fair Housing Act and the regulation implementing the FHAP at 24 CFR 115.102(a), HUD seeks public comment on the following agencies granted certification:

• Arizona Attorney General's Office (Arizona).

• Asheville-Buncombe County Fair Housing Commission (North Carolina).

• Austin Human Rights Commission (Texas).

• Boston Fair Housing Commission (Massachusetts).

• California Department of Fair Employment and Housing (California).

• Cambridge Human Rights Commission (Massachusetts).

• Cedar Rapids Civil Rights Commission (Iowa).

• Charleston Human Rights Commission (West Virginia).

• City of Charlotte/Mecklenburg Community Relations Committee (North Carolina).

• City of Corpus Christi, Texas (Texas).

• City of Dallas, Texas (Texas).

• City of Durham Human Relations Commission (North Carolina).

• City of Elkhart Human Relations Commission (Indiana).

• City of Hammond Human Relations Commission (Indiana).

• City of Lawrence Human Relations Commission (Kansas).

• City of Parma Law Department (Ohio).

• City of St. Petersburg Community Affairs Department (Florida).

• City of Tampa Office of Human Rights (Florida).

• City of Topeka Human Relations Commission (Kansas).

• Colorado Civil Rights Division (Colorado).

• Commission on Human Relations for the City of Reading (Pennsylvania).

• Connecticut Commission on Human Rights and Opportunities (Connecticut).

• County of Rockland Commission on Human Rights (New York).

• Davenport Civil Rights Commission (Iowa).

• Dayton Human Relations Council (Ohio).

• Delaware Division of Human Relations (Delaware).

• Des Moines Human Rights Commission (Iowa).

• District of Columbia Office of Human Rights (District of Columbia).

• Dubuque Human Rights Commission (Iowa).

• Florida Commission on Human Relations (Florida).

• Fort Wayne Metropolitan Human Relations Commission (Indiana).

• Fort Worth Human Relations Commission (Texas).

• Garland Neighborhood Development Department (Texas).

• Gary Human Relations Commission (Indiana).

• Georgia Commission on Equal Opportunity (Georgia).

• Greensboro Human Relations Department (North Carolina).

• Hawaii Civil Rights Commission (Hawaii).

• Hillsborough County Office of the Equal Opportunity Administrator (Florida).

• Huntington Human Relations Commission (West Virginia).

• Indiana Civil Rights Commission (Iowa).

• Iowa Civil Rights Commission (Iowa).

• Jacksonville Human Rights Commission (Florida).

• Kansas City, Missouri Human Relations Department (Missouri).

• Kentucky Commission on Human Rights (Kentucky).

• King County Office of Civil Rights (Washington).

• Knoxville Department of Community Development (Tennessee).

• Lee County Office of Equal Opportunity (Florida).

• Lexington-Fayette Urban County Human Rights Commission (Kentucky).

• Lincoln Commission on Human Rights (Nebraska).

• Louisiana Department of Justice Public Protection Division/Equal Opportunity Section (Louisiana).

• Louisville Metro Human Relations Commission (Kentucky).

• Maryland Commission on Human Relations (Maryland).

• Mason City Human Rights Commission (Iowa).

• Massachusetts Commission Against Discrimination (Massachusetts).

• Michigan Department of Civil Rights (Michigan).

• Missouri Commission on Human Rights (Missouri).

• Nebraska Equal Opportunity Commission (Nebraska).

• New Hanover Human Relations Commission (North Carolina).

• New York State Division of Human Rights (New York).

• North Carolina Human Relations Commission (North Carolina).

• North Dakota Department of Labor (North Dakota).

• Ohio Civil Rights Commission (Ohio).

• Oklahoma Human Rights Commission (Oklahoma).

• Olathe Housing and Human Services Department (Kansas).

• Omaha Human Relations Department (Nebraska).

• Orange County Department of Human Rights and Relations (North Carolina).

• Orlando Human Relations Department (Florida).

• Palm Beach County Office of Equal Opportunity (Florida).

• Pennsylvania Human Relations Commission (Pennsylvania).

• Phoenix Equal Opportunity Department (Arizona).

• Pinellas County Office of Human Rights (Florida).

• Pittsburgh Commission on Human Relations (Pennsylvania).

• Rhode Island Commission for Human Rights (Rhode Island).

• Salina Human Relations Department (Kansas).

• Seattle Office for Civil Rights (Washington).

• Shaker Heights Fair Housing Review Board (Ohio).

• Sioux City Human Rights Commission (Iowa).

• South Bend Human Rights Commission (Indiana).

• South Carolina Human Affairs Commission (South Carolina).

• Springfield Department of Community Relations (Illinois).

• Tacoma Human Rights and Human Services Department (Washington).

• Tennessee Human Rights Commission (Tennessee).

• Texas Workforce Commission (Texas).

• Utah Anti-Discrimination Division (Utah).

• Vermont Human Rights Commission (Vermont).

• Virginia Department of Professional and Occupational Regulations Real Estate Board (Virginia).

• Washington State Human Rights Commission (Washington).

• Waterloo Commission on Human Rights (Iowa).

• West Virginia Human Rights Commission (West Virginia).

• Winston-Salem Human Relations Commission (North Carolina)

• York Human Relations Commission (Pennsylvania).

Withdrawal of Certification has not been proposed for any agency.

Dated: March 17, 2008.
Kim Kendrick,
Assistant Secretary for Fair Housing and Equal Opportunity.

[FR Doc. E8-5910 Filed 3-21-08; 8:45 am]

BILLING CODE 4210-67-P